DEPARTMENT OF TRANSPORTATION

Coast Guard

33 CFR Part 117

[CGD13-01-006]

RIN 2115-AE47

Drawbridge Operation Regulations; Youngs Bay and Lewis and Clark River, OR

AGENCY: Coast Guard, DOT.

ACTION: Notice of proposed rulemaking.

SUMMARY: The Coast Guard proposes to change the periods during which advance notice is required for opening these drawbridges: New Youngs Bay, mile 0.7, across Youngs Bay; Old Youngs Bay, mile 2.4, across Youngs Bay and the Lewis and Clark River Bridge across the Lewis and Clark River, mile 1.0, at Astoria, Oregon. In this proposal the drawbridges would open for the passage of vessels with at least one half-hour notice from 6 a.m. to 6 p.m. Monday through Friday and from 8 a.m. to 4 p.m. on Saturday and Sunday. At all other times four hours notice would be required. This would reduce the currently designated daily hours at which only a half-hour notice is required for draw openings.

DATES: Comments and related material must reach the Coast Guard on or before September 10, 2001.

ADDRESSES: You may mail comments and related material to Commander (oan), Thirteenth Coast Guard District, 915 Second Avenue, Seattle, Washington 98174-1067 or deliver them to room 3510 at the same address between 7:45 a.m. and 4:15 p.m., Monday through Friday, except Federal holidays. This office maintains the public docket for this rulemaking. Comments and material received from the public, as well as documents indicated in this preamble as being available in the docket, will become part of this docket and will be available for inspection or copying.

FOR FURTHER INFORMATION CONTACT: Austin Pratt, Chief, Bridge Section, Thirteenth Coast Guard District, (206) 220-7282.

SUPPLEMENTARY INFORMATION:

Request for Comments

We encourage you to participate in this rulemaking by submitting comments and related material. If you do so, please include your name and address, identify the docket number for this rulemaking (CCGD13-01-006), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Commander Thirteenth Coast Guard District (oan) at the address under ADDRESSES explaining why one would be beneficial. If we determine that one would aid this rulemaking, we will hold one at a time and place announced by a later notice in the Federal Register.

Background and Purpose

The operating regulations currently in effect for these drawbridges at 33 Code of Federal Regulations 117.899 provide that the spans need not open for the passage of vessels from 5 a.m. to 9 p.m. daily unless at least a half hour notice is provided. During these daily hours notice may be given by marine radio, telephone, or other suitable means. At all other times a minimum of four hours notice is required by telephone only. The three drawbridges have operated according to this schedule since 1993 without complaint from vessel operators. The proposed rule would enable the Oregon Department of Transportation, owner of the bridges, to reduce staffing on half-hour standby during the hours when the bridges have been less frequently opened and to apply these savings to maintenance expenses.

Discussion of Proposed Rule

The proposed change would reduce the Monday through Friday periods that require only a half hour notice to open the bridge for the passage of vessels by one hour in the morning and three in the evening. On Saturdays and Sundays the same period would be reduced by three hours in the morning and five in the evening. In effect, this would likewise increase the daily periods when four hours notice is the minimum requirement for notice by the same number of hours. The change is based on the general reduction in the number of requests for opening by vessel operators and the reduction of requests specific to the hours that would be changed.

In the year 2000 the New Youngs Bay Bridge opened a total of 335 times for an average of less than once a day. The Old Youngs Bay Bridge opened only 47 times in the same year, while the Lewis and Clark River Bridge opened 325 times. Records indicate a significant reduction in openings for the three bridges since 1996. There is less demand for draw openings on the weekends and for the hours of the day that would be added to the period in which four hours notice is required. Based on the data from the year 2000, only four openings occurred during the proposed one-hour change in the morning, Monday through Friday. More openings would have been affected in the evening addition of three hours to the four-hour notice category. However, this number is 27, still a small fraction of the total. The records indicate a marked decrease in the demand for openings from 5 p.m. to 7 p.m.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary. This conclusion is based on the fact that the bridges are not frequently requested to open. The majority of vessels are clients of a boatyard upstream of the Lewis and Clark River Bridge. The advance notice requirement does not obstruct passage for any vessels. Currently, vessels have operated under similar notice requirements without complaint.

Indian Tribal Governments

This rule does not have tribal implications under Executive Order 13175, Consultation and Coordination with Indian Tribal Governments, because it does not have a substantial direct effect on one or more Indian tribes, or on the relationship between the Federal Government and Indian tribes, or on the distribution of power and responsibilities between the Federal Government and Indian tribes.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. Some vessel owners might be temporarily inconvenienced by the change, if effected, but the greater advance notice required in part of the morning and evening should not be significant, especially after vessel operators learn of the change and can therefore plan their trips accordingly. If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (32)(e) of Commandant Instruction M16475.lC, this proposed rule is categorically excluded from further environmental documentation because promulgation of drawbridge regulations have been found not to have a significant effect on the environment. A “Categorical Exclusion Determination” is available in the docket where indicated under ADDRESSES.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1-(g); section 117.255 also issued under the authority of Pub. L. 102-587, 106 Stat. 5039.

2. Section 117.899 is revised as follows:

§ 117.899 Youngs Bay and Lewis and Clark River.

(a) The draw of the US101 (New Youngs Bay) highway bridge, mile 0.7, across Youngs Bay at Smith Point, shall open on signal for the passage of vessels if at least one half-hour notice is given to the drawtender at the Lewis and Clark River Bridge by marine radio, telephone, or other suitable means from 6 a.m. to 6 p.m. Monday through Friday and from 8 a.m. to 4 p.m. on Saturday and Sunday. At all other times at least a four-hour notice by telephone is required. The opening signal is two prolonged blasts followed by one short blast.

(b) The draw of the Oregon State (Old Youngs Bay) highway bridge, mile 2.4, across Youngs Bay at the foot of Fifth Street, shall open on signal for the passage of vessels if at least one half-hour notice is given to the drawtender at the Lewis and Clark River Bridge by marine radio, telephone, or other suitable means from 6 a.m. to 6 p.m. Monday through Friday and from 8 a.m. to 4 p.m. Saturday and Sunday. At all other times at least a four-hour notice by telephone is required. The opening signal is two prolonged blasts followed by one short blast.

(c) The draw of the Oregon State (Lewis and Clark River) highway bridge, mile 1.0, across the Lewis and Clark River, shall open on signal for the passage of vessels if at least one half-hour notice is given by marine radio, telephone, or other suitable means from 6 a.m. to 6 p.m. Monday through Friday and from 8 a.m. to 4 p.m. on Saturday and Sunday. The opening signal is one prolonged blast followed by four short blasts.

Dated: May 7, 2001.
P.M. Sanders,
Captain, U.S. Coast Guard, Commander, Thirteenth Coast Guard District, Acting.

[FR Doc. 01-17381 Filed 7-11-01; 8:45 am]

BILLING CODE 4910-15-P